DEPARTMENT OF HEALTH AND HUMAN SERVICES

Health Resources and Services Administration

Meeting of the Advisory Committee on Organ Transplantation

AGENCY: Health Resources and Services Administration (HRSA), HHS.

ACTION: Notice; correction.

SUMMARY: The Advisory Committee on Organ Transplantation (ACOT) meeting has been rescheduled due to an unanticipated conflict and will now be held on Monday, May 20, 2019, from 10:00 a.m.-4:00 p.m. Eastern Time. The meeting will be held by webinar and conference call. The webinar link, conference call-in number, agenda, and instructions for registration will be posted 15 business days before the meeting on the ACOT website at https://www.organdonor.gov/about-dot/acot.html.

FOR FURTHER INFORMATION CONTACT: Robert Walsh, Designated Federal Officer, at the Healthcare Systems Bureau, Division of Transplantation, HRSA, 5600 Fishers Lane, 8W60, Rockville, Maryland 20857; 301-443-6839; or RWalsh@hrsa.gov.

New meeting date: Monday, May 20, 2019, rather than April 16, 2019, as previously announced.

Amy P. McNulty,
Acting Director, Division of the Executive Secretariat.

[FR Doc. 2019-07278 Filed 4-11-19; 8:45 am]

BILLING CODE 4165-15-P